DEPARTMENT OF COMMERCE

National Oceanic and Atmospheric Administration

[XRIN: 0648-XA50]

South Atlantic Fishery Management Council; Public Meetings

AGENCY: National Marine Fisheries Service (NMFS), National Oceanic and Atmospheric Administration (NOAA), Commerce.

ACTION: Notice of public meetings.

SUMMARY: The South Atlantic Fishery Management Council (Council) will hold a meeting of its Standard Operations, Policy, and Procedures (SOPPs) Committee, Economics Committee, Personnel Committee (Closed Session), Snapper Grouper Committee, Shrimp Committee, Mackerel Committee, Joint Spiny Lobster Advisory Panel and Committee, Limited Access Privilege (LAP) Program Committee, Joint Habitat and Ecosystem-based Management Committees, Southeast Data, Assessment, and Review (SEDAR) Committee, Joint Executive and Finance Committees, and a meeting of the full Council. The Council will also hold a meeting of its Scientific and Statistical Committee (SSC), including subcommittee meetings of the SSC's Biological Subcommittee and Socio-Economics Subcommittee. Public comment will be taken concerning agenda items for the SSC meetings. In addition, the Council will hold a meeting of the LAP Program Exploratory Workgroup, a public comment session regarding a request by the Bluewater Fishermen's Association for an Exempted Fishery Permit for longline vessels, and a public comment session regarding approval of Amendment 14 to the Snapper Grouper Fishery Management Plan to establish a series of marine protected areas in the South Atlantic Region.

DATES: The meeting will be held in June 2007. See SUPPLEMENTARY INFORMATION for specific dates and times.

ADDRESSES: The meeting will be held at the Doubletree Grand Key Resort, 3990 S. Roosevelt Boulevard, Key West, FL, 33040; telephone: (1-800) 222-8733 or (305) 293-1818.

Council address: South Atlantic Fishery Management Council, 4055 Faber Place Drive, Suite 201, North Charleston, SC 29405.

FOR FURTHER INFORMATION CONTACT: Kim Iverson, Public Information Officer; telephone: (843) 571-4366 or toll free at (866) SAFMC-10; fax: (843) 769-4520; email: kim.iverson@safmc.net.

SUPPLEMENTARY INFORMATION:

Meeting Dates

1. Scientific and Statistical Committee Meeting: June 10, 2007, 1 p.m. until 5 p.m.; June 11, 2007 from 10:15 a.m. until 3 p.m.; and June 12, 2007, 8 a.m. until 12 noon. The SSC Biological Subcommittee and SSC Socio-Economics Committee will meet in concurrent sessions on Sunday, June 10, 2007, 5:15 p.m. until 6:30 p.m.; June 11, 2007, 8 a.m. until 10 a.m. and 3:15 p.m. until 6 p.m.

The SSC will receive overviews and updates, discuss, and provide recommendations to the Council regarding, but not limited to, the following agenda items: the role of the SSC under the Magnuson-Stevens Fishery Conservation and Management Reauthorization Act (MSRA), the SEDAR stock assessment for gag grouper, the SEDAR stock assessment update for vermilion snapper, Amendment 15 to the Snapper Grouper Fishery Management Plan (FMP), Amendment 18 to the FMP for Coastal Migratory Pelagic Resources of the Gulf of Mexico and South Atlantic, a scoping document for Amendment 19 to the FMP for Coastal Migratory Pelagic Resources of the Gulf of Mexico and South Atlantic, a research plan required by the MSRA, and a NMFS comparison of electronic and paper logbooks versus state trip ticket data.

With the exception of the role of the SSC under the MSRA, the SSC Biological Subcommittee and the SSC Socio-Economics Subcommittee will review the same agenda items and provide recommendations to the full SSC for consideration.

Amendment 15 to the Snapper Grouper FMP addresses rebuilding plans for black sea bass, snowy grouper and red porgy as well as reductions in bycatch for deepwater snapper grouper species, recreational sale, black sea bass tags and pots, permit renewals, and other actions. Amendment 18 to the FMP for Coastal Migratory Pelagic Resources of the Gulf of Mexico and South Atlantic addresses reductions in the Total Allowable Catch (TAC) for Atlantic migratory group king and Spanish mackerel, and changes in trip limits for Spanish mackerel. Amendment 19, currently approved by the South Atlantic Council as a scoping document, would separate the FMP for Coastal Migratory Pelagics between the Gulf of Mexico Fishery Management Council and the South Atlantic Fishery Management Council, and address boundary and permit issues associated with creating separate FMPs between the two councils.

2. SOPPs Committee Meeting: June 11, 2007, 1:30 p.m. until 3 p.m.

The SOPPs Committee will receive an update on the status of the Secretarial review of the Council's SOPPs and develop changes to the SOPPs as necessary.

3. Economics Committee Meeting: June 11, 2007, 3 p.m. until 4:30 p.m.

The Economics Committee will receive a presentation on economic analysis of allocation methodologies for Gulf of Mexico grouper species and discuss the timeline for development of the South Atlantic Council's Socioeconomics Guidance Document.

4. Personnel Committee Meeting: June 11, 2007, 4:30 p.m.. until 5:30 p.m. (Closed Session)

The Personnel Committee will receive a briefing from the Executive Director regarding staffing and personnel issues.

5. LAP Program Exploratory Workgroup Meeting: June 12, 2007, 1:30 p.m. until 6 p.m. and June 13, 2007, 8 a.m. until 3 p.m. (Concurrent Sessions)

The LAP Workgroup will receive a presentation and panel discussion of the development of the Individual Transferable Quota (IFQ) program for the Gulf of Mexico grouper, an update on the Workgroup's information requests, review and approval of the LAP Program Exploratory Workgroup draft working document, and prioritize the Workgroup's objectives. The Workgroup will also develop LAP Program duration options, options for species to be included in a LAP Program, and discuss gear sectors to be included in a LAP Program.

6. Snapper Grouper Committee Meeting: June 12, 2007, 8 a.m. until 4 p.m.

The Snapper Grouper Committee will meet to discuss the gag grouper SEDAR assessment and SEDAR stock assessment update for vermillion snapper, review recommendations from the SSC, and develop recommendations for the Council. The Committee will also review the Final Amendment 14 to the Snapper Grouper FMP establishing marine protected areas in the South Atlantic Region, and approve sending for formal review by the Secretary of Commerce, and review Amendment 15 to the Snapper Grouper FMP, including SSC recommendations, and provide direction to Council staff.

7. Shrimp Committee Meeting: June 12, 2007, 4 p.m. until 5:30 p.m.

The Shrimp Committee will review input and recommendations from the Rock Shrimp Advisory Panel (AP), address law enforcement concerns, review a draft options paper containing recommendations from the AP, and provide direction to staff.

8. Mackerel Committee Meeting, June 13, 2007, 8 a.m. until 12 noon

The Mackerel Committee will review public comments received on Amendment 18 and approve final actions. The Committee will also review and approve the Amendment 19 scoping document, and develop input for SEDAR terms of reference and appointments.

9. Joint Spiny Lobster Committee and Advisory Panel Meeting, June 13, 2007, 1:30 p.m. until 4 p.m.

The Spiny Lobster Committee will meet jointly with the Spiny Lobster Advisory Panel and receive an update from the State of Florida, a briefing on NMFS Law Enforcement issues, a briefing on NOAA General Counsel issues, an update from the Florida State Lobster Advisory Board, and develop items to include in a plan amendment.

10. LAP Program Committee Meeting, June 13, 2007, 4 p.m. until 6 p.m.

The Limited Access Privilege Program Committee will receive a report from the LAP Program Exploratory Workgroup, discuss non-LAP alternatives for the snapper grouper fishery, reconsider the use of proxies for Workgroup members, and consider replacement/appointments of new members.

Public Comment Session, June 13, 2007, 6:30 p.m.: The Council will hold a public comment session regarding the Bluewater Fishermen's Association's request for an Exempted Fishery Permit (EFP) involving the commercial longline fishery.

11. Joint Habitat and Ecosystem-based Management Committees Meeting, June 14, 2007, 8 a.m. until 10:30 a.m.

The Habitat and Ecosystem-based Management Committees will review Energy and Offshore Aquaculture Policy statements, receive an update on the Council's Fishery Ecosystem Plan (FEP), and the FEP Comprehensive Amendment.

12. SEDAR Committee Meeting, June 14, 2007, 10:30 a.m. until 12 noon

The SEDAR Committee will review actions from the SEDAR Steering Committee and develop Scientific Research Priorities as required by the MSRA. The Committee will also review and finalize Council appointees for SEDAR 15 (greater amberjack and red snapper), SEDAR 15A (mutton snapper), SEDAR 16 (South Atlantic and Gulf of Mexico king mackerel), and appointment of “outside” individuals to SEDAR 16. In addition, the Committee will review the status of the vermilion snapper assessment update, the gag grouper SEDAR assessment, the king mackerel SEDAR assessment, and review an outline for the Trends Report and the Stock Assessment and Fishery Evaluation (SAFE) Report.

13. Joint Executive/Finance Committees Meeting, June 14, 2007, 1:30 p.m. until 3 p.m.

The Executive and Finance Committees will finalize the Calendar Year (CY) 2007 FMP/Amendment/Framework timelines, and develop and approve CY 2007 activities schedule and budget. The Committees will also discuss and provide recommendations for appointments for an Ad Hoc Marine Recreational Fisheries Statistical Survey (MRFSS) Advisory Panel.

14. Council Session: June 14, 2007, 3:30 p.m. until 6 p.m. and June 15, 2007, 8 a.m. until 12 noon

Council Session: June 14, 2007, 3:30 p.m. until 6 p.m.

From 3:30 p.m. - 3:45 p.m., the Council will call the meeting to order, adopt the agenda, and approve the March 2007 meeting minutes.

From 3:45 p.m. - 4:15 p.m., the Council will review Experimental Fishing Permit applications from: Bluewater Fishermen's Association, S.C. Aquarium, and any others received prior to the meeting.

From 4:15 p.m. - 4:30 p.m., the Council will hear a report from the SSC and take action as appropriate.

From 4:30 p.m. - 4:45 p.m., the Council will hear a report from the Economics Committee and take action as appropriate.

From 4:45 p.m. - 5:30 p.m., the Council will hear a report from the Snapper Grouper Committee, receive public comment on Amendment 14, approve Amendment 14 for submission to the Secretary of Commerce, and consider other recommendations and take action as appropriate.

4:45 p.m. - Public Comment Session: Public comment regarding Amendment 14 to the Snapper Grouper FMP - establishment of 8 marine protected areas in the South Atlantic Region.

From 5:30 p.m. - 5:45 p.m., the Council will hear a report from the Shrimp Committee and take action as appropriate.

From 5:45 p.m. - 6 p.m., the Council will hear a report from the Mackerel Committee and take action as appropriate.

Council Session: June 15, 2007, 8 a.m. until 12 noon.

From 8 a.m. - 8:30 a.m., the Council will receive a NOAA General Counsel briefing on litigation issues (CLOSED SESSION).

From 8:30 a.m. - 8:45 a.m., the Council will receive a report from the Spiny Lobster Committee and take action as appropriate.

From 8:45 a.m. - 9 a.m., the Council will receive a report from the LAP Program Committee and take action as appropriate.

From 9 a.m. - 9:15 a.m., the Council will receive a report from the Joint Habitat and Ecosystem-based Management Committees and take action as appropriate.

From 9:15 a.m. - 9:30 a.m., the Council will receive a report from the SEDAR Committee and take action as appropriate.

From 9:30 a.m. - 9:45 p.m., the Council will receive a report from the Joint Executive/Finance Committees and take action as appropriate.

From 9:45 a.m. - 10:15 a.m., the Council will receive a briefing on the use of Green Sticks and the status of the petition to list white martin.

From 10:15 a.m. - 12 noon, the Council will receive a report regarding the Council Coordinating Committee Meeting, discuss Annual Catch Limits, receive status reports from NOAA Fisheries' Southeast Regional Office, NOAA Fisheries' Southeast Fisheries Science Center, agency and liaison reports, and discuss other business including upcoming meetings.

Copies of documents regarding these issues are available from the Council office (see ADDRESSES).

Although non-emergency issues not contained in this agenda may come before this Council for discussion, those issues may not be the subjects of formal Council action during this meeting. Council action will be restricted to those issues specifically listed in this notice and any issues arising after publication of this notice that require emergency action under section 305 (c) of the Magnuson-Stevens Act, provided the public has been notified of the Council's intent to take final action to address the emergency.

Except for advertised (scheduled) public hearings and public comment, the times and sequence specified on this agenda are subject to change.

Special Accommodations

These meetings are physically accessible to people with disabilities. Requests for sign language interpretation or other auxiliary aids should be directed to the Council office (see ADDRESSES) by June 6, 2007.

Dated: May 18, 2007.
Tracey L. Thompson,
Acting Director, Office of Sustainable Fisheries, National Marine Fisheries Service.

[FR Doc. E7-9908 Filed 5-22-07; 8:45 am]

BILLING CODE 3510-22-S